DEPARTMENT OF DEFENSE

Office of the Secretary

[Transmittal Nos. 14-02]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-02 with attached transmittal and policy justification.

Dated: April 28, 2014.
Aaron Siegel,
Alternate OSD Federal Register Liaison Officer, Department of Defense.

BILLING CODE: 5001-06-P

BILLING CODE: 5001-06-C

Transmittal No. 14-02

Notice of Proposed Issuance of Letter of Offer Pursuant to Section 36(b) (1) of the Arms Export Control Act, as amended

(i) Prospective Purchaser: Kingdom of Saudi Arabia, Ministry of Interior

(ii) Total Estimated Value:

Major Defense Equipment | $ 0 million
Other | $80 million
Total | $80 million

(iii) Description and Quantity or Quantities of Articles or Services under Consideration for Purchase: Provides three years of support services for the Facilities Security Forces-Training and Advisory Group (FSF-TAG) in Riyadh, Saudi Arabia in support of the Kingdom of Saudi Arabia Ministry of Interior (MOI). The support will include technical assistance and advisory support salaries, housing, office equipment, training, maintenance, vehicles, travel, furniture, and other related support.

(iv) Military Department: Army (UBA)

(v) Prior Related Cases, if any:

FMS case UAA-$6.7M-24Sep09

FMS case UAC-$3.6M-22Dec10

FMS case UAD-$21.2M-22Dec10

FMS case UAG-$17.3M-6Jul11

FMS case UAH-$7.0M-7Feb12

(vi) Sales Commission, Fee, etc., Paid, Offered, or Agreed to be Paid: None

(vii) Sensitivity of Technology Contained in the Defense Article or Defense Services Proposed to be Sold: None.

(viii) Date Report Delivered to Congress: 17 April 2014

* as defined in Section 47(6) of the Arms Export Control Act.

POLICY JUSTIFICATION

Kingdom of Saudi Arabia—Support Services

The Government of Saudi Arabia has requested a possible sale to provide three years of support services for the Facilities Security Forces- Training and Advisory Group (FSF-TAG) in Riyadh, Saudi Arabia in support of the Kingdom of Saudi Arabia Ministry of Interior (MOI). The support will include technical assistance and advisory support salaries, housing, office equipment, training, maintenance, vehicles, travel, furniture, and other related support. The estimated cost is $80 million.

This proposed sale will contribute to the foreign policy and national security of the United States by helping to improve the security of a friendly country that has been and continues to be an important force for political stability in the Middle East.

This proposed sale will provide the continuation of FSF-TAG and its ability to provide services to Saudi Arabia's MOI in support of its critical infrastructure protection efforts. The proposed sale conveys the U.S.'s continued commitment to Saudi Arabia's security and strengthens our strategic partnership.

The proposed sale will not alter the basic military balance in the region.

There is no prime contractor associated with this proposed sale. There are no known offset agreements in connection with this potential sale.

Implementation of this proposed sale requires the assignment of U.S. Government or contractor representatives to Saudi Arabia. At present, there are approximately 95 U.S. Government personnel and contractor representatives in country supporting FSF-TAG.

There will be no adverse impact on U.S. defense readiness as a result of this proposed sale.

[FR Doc. 2014-09990 Filed 5-1-14; 8:45 am]

BILLING CODE 5001-06-P